NATIONAL AERONAUTICS AND SPACE ADMINISTRATION

[Notice 00-080]

Notice of Agency Report Forms Under OMB Review

AGENCY: National Aeronautics and Space Administration (NASA).

ACTION: Notice of agency report forms under OMB review.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)). This information is required to evaluate bids and process invoices submitted to NASA for the award of purchase orders or for bank card actions for goods and services for purchases $100k or less in support of NASA's mission.

DATES: All comments should be submitted on or before September 12, 2000.

ADDRESSES: All comments should be addressed to Mr. Richard Kall, Code HK, National Aeronautics and Space Administration, Washington, DC 20546-0001.

FOR FURTHER INFORMATION CONTACT: Ms. Carmela Simonson, NASA Reports Officer, (202) 358-1223.

Title: NASA simplified acquisition for goods and services with a value of $100,000 or less.

OMB Number: 2700-0086.

Type of review: Extension.

Need and Uses: Information collection is required to evaluate bids and proposals from offerors in order to award purchase orders and to use bank cards for required goods and services in support of NASA's mission and for the administrative requirements from such orders.

Affected Public: Business or other for-profit, not-for-profit institutions, State, Local or Tribal Government.

Number of Respondents: 250,865.

Responses Per Respondent: 1.

Annual Responses: 250,865.

Hours Per Request: 15-20 min.

Annual Burden Hours: 73,380.

Frequency of Report: On occasion.

David B. Nelson,
Deputy Chief Information Officer, Office of the Administrator.

[FR Doc. 00-17843 Filed 7-13-00; 8:45 am]

BILLING CODE 7510-01-P